FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction No. | Acquiring person | Acquired person | Acquired entities
Transactions Granted Early Termination—11/26/2001
20020109 | Mr. Peter R. Kellogg | Navistar International Corporation | Harco National Insurance Company
20020117 | AT&T Wireless Services, Inc | AT&T Wireless Services, Inc | Salinas Cellular Telephone Company
20020120 | Baylor Health Care System | All Saints Health System | All Saints Health System
20020123 | BB&T Corporation | Cooney, Rikard & Curtin, Inc | Cooney, Rikard & Curtin, Inc.
20020124 | Kerr-McGee Corporation | Devon Holdco | Devon Holdco
20020129 | Security Capital Group Incorporated | Equity Office Properties Trust | ECH-517 Marquette, L.L.C.
|  |  | ECH-Adams/Wabash Parking Garage, L.L.C.
|  |  | ECH-North Loop/Theater District Parking Limited Partnership
|  |  | ECH-St. Louis Parking Garages, L.L.C.
20020140 | Observer AB | PRIMEDIA Inc | Bacon's Information, Inc.
20020146 | Berkshire Hathaway Inc | Fruit of the Loom, Ltd | Fruit of the Loom, Ltd. FTL Caribe, Ltd. Union Underwear Company, Inc.
Transactions Granted Early Termination—11/27/2001
20020132 | JP Morgan Chase & Co | Emerson Electric Co | Electronic Control Systems, Inc., Ogden Manufacturing Co.
|  |  | Emerson Electric (U.K.) Limited, VUMA A.S. Emerson Electric Canada Limited Emerson Electric Co.
|  |  | Etirex S.A., ELW Industrial, S. de R.L. de C.V.
20020136 | ILEX Oncology, Inc | Millennium Pharmaceuticals, Inc | Millennium & ILEX Partners, L.P. Millennium & ILEX, L.L.C.
Transactions Granted Early Termination—11/28/2001
20020153 | Fiserv, Inc | William E. Sagan | Trewit, Inc.
Transactions Granted Early Termination—11/29/2001
20020084 | Wellspring Capital Partners II, L.P | American Coin Merchandising, Inc | American Coin Merchandising, Inc.
20020097 | Lockheed Martin Corporation | Cecile Barker | OAO Corporation
20020138 | QUALCOMM Incorporated | VeloCom Inc | VeloCom Inc.
20020143 | School Specialty, Inc | Franklin Covey Co | Premier Agendas, Inc.
20020147 | Verizon Communications Inc | Everett R. Dobson Irrevocable Family Trust | ACC Tennessee License LLC
|  |  | Dobson Cellular Systems, Inc., ACC of Tennessee LLC
20020148 | Verizon Communications Inc | AT&T Wireless Services, Inc | AT&T Wireless Services, Inc.
20020149 | Weyerhaeuser Company | Willamette Industries, Inc | Willamette Industries, Inc.
20020159 | MBNA Corporation | Wachovia Corporation | The First National Bank of Atlanta
20020160 | Kmart Corporation | Windsong/Allegiance, LLC | Joe Boxer Company, LLC
Transactions Granted Early Termination—12/03/2001
20020119 | Alliant Techsystems Inc | Blount International, Inc | Estate Cartridge, Inc. Federal Cartridge Company Newco Simmons Outdoor Corporation
20020145 | IM International media AG | Graham King | Initial Entertainment Group, Inc.
20020152 | Long Beach Holdings Corp | Ameriquest Capital Corporation | Long Beach Acceptance Corp.
20020163 | International Business Machines Corporation | Cross Worlds Software, Inc | Cross Worlds Software, Inc.
20020168 | Mr. Vic De Zen | Fineter S.A | Marley Mouldings LLC
20020173 | Lap Shun (John) Hui | eMachines, Inc | eMachines, Inc.
Transactions Granted Early Termination—12/04/2001
20020133 | WellPoint Health Networks Inc | Missouri Foundation for Health (The) | RightCHOICE Managed Care, Inc.
20020171 | Wind Point Partners IV, L.P | U.S. Industries, Inc | Ames True Temper, Inc. IXL Manufacturing, Inc.
Transactions Granted Early Termination—12/06/2001
20020257 | The 1998 Confederation Trust | Quality Stores, Inc | Quality Stores, Inc.
Transactions Granted Early Termination—12/07/2001
2001241 | Koninklijke Ahold N.V | Bruno's Supermarkets, Inc | Bruno's Supermarkets, Inc.
20020164 | CRH, plc | Royal Bank of Canada | Global Clay Products, LLC
20020185 | First Reserve Fund VIII, L.P | Key Energy Services, Inc | Key Energy Services, Inc.

For Further Information Contact: Sandra M. Peay or Chandra L. Kennedy, Contact Representatives, Federal Trade Commission, Premerger Notification Office, Bureau of Competition, Room 303, Washington, DC 20580, (202) 326-3100.

By Direction of the Commission.
Donald S. Clark,
Secretary.

[FR Doc. 02-1476 Filed 1-18-02; 8:45 am]

BILLING CODE 6750-01-M